DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before May 27, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on May 1, 2025.
Donald P. Burger,
Chief, General Approvals and Permits Branch.

Special Permits Data
Application No. | Applicant | Regulation(s) affected | Nature of the special permits thereof
10814-M | Spellman High Voltage Electronics Corporation | 173.302a | To modify the special permit to authorize an additional packaging. (modes 1,2, 3, 4, 5).
11379-M | ZF Passive Safety Systems US LLC | 173.302(a)(1), 173.301(a) | To modify the special permit to authorize additional packagings. (mode 1).
16133-M | Cryovat International BV (The Rootselaar Group) | 178.274(b) | To modify the special permit to decrease the minimum volume, increase the maximum volume, and increase the upper design pressure. (modes 1, 2, 3).
20279-M | Kaplan Industries, Inc | 180.207(d)(1) | To modify the special permit to authorize an additional cylinder. (modes 1, 2, 3, 4, 5).
20493-M | Tesla, Inc | 173.185(b)(5) | To modify the special permit to authorize an additional battery. (mode 4).
20646-M | Omni-Tanker PTY | 172.102(c)(3), 172.102(c)(7)(ii) | To modify the special permit to authorize additional lining materials within the cargo tank. (modes 1, 2).
21023-M | Tire Seal, Inc | 173.304(d) | To modify the special permit to authorize an additional hazardous material. (modes 1, 2, 3, 4, 5).
21213-M | Space Exploration Technologies Corp | 172.300, 172.400, 173.302(a), 172.402(f), 173.1, 177.840 | To modify the special permit to add the Starlink satellite designs which include an aluminum pressure vessel containing compressed gas as part of the propulsion system and a battery pack consisting of lithium-ion battery cells which would be transported over public highways. (mode 1).
21433-M | Pyrotek Special Effects Rock Lititz Inc | 173.306(k)(1)(iv)(A), 173.306(k)(1)(iv)(B) | To modify the special permit to add additional package closure options. (modes 1, 2, 3).
21528-M | Honeywell Intellectual Properties Inc | 173.302a(a)(1) | To modify the special permit to increase the service pressure to 10,400 psig from 10,000 psig. (mode 1).
21619-M | Decade Products, LLC | 173.185(f)(1), 173.185(f)(3) | To modify the special permit to authorize an additional packaging design. (modes 1, 2, 3).
21624-M | Porsche Logistik GmbH | 172.101(j) | To authorize a lithium battery with a higher net mass. (mode 4).
21664-M | Champion Container Corporation | 173.158(f)(3) | To modify the special permit to authorize additional concentrations of nitric acid. (modes 1, 2, 3).
21896-M | Caterpillar Inc | 172.101(j), 173.185(a)(1) | To modify the permit to reflect that the battery types have now been UN 38.3 tested and revise the special permit to only address the necessary authorization to exceed 35 kg via cargo-only aircraft. (mode 4).

[FR Doc. 2025-08272 Filed 5-9-25; 8:45 am]

BILLING CODE P